DEPARTMENT OF HEALTH AND HUMAN SERVICES

National Institutes of Health

National Institute of Diabetes and Digestive and Kidney Diseases; Amended Notice of Meeting

Notice is hereby given of a change in the meeting of the National Institute of Diabetes and Digestive and Kidney Diseases Special Emphasis Panel, March 30-31, 2020, 8:00 a.m. to 5:00 p.m., Doubletree Hotel Bethesda, Conference Room Bethesdan D, 8120 Wisconsin Avenue, Bethesda, MD 20814 which was published in the Federal Register on February 11, 2020, 85 FR 7772.

The meeting notice is amended to change the meeting time and name of the Hotel from March 30-31, 2020, 8:00 a.m. to 5:00 p.m., Doubletree Hotel Bethesda, Conference Room Bethesdan D, 8120 Wisconsin Avenue, Bethesda, MD 20814 to March 30-31, 2020, 05:00 p.m. to 5:00 p.m., The Bethesdan Hotel, Conference Room Bethesdan D, 8120 Wisconsin Avenue, Bethesda, MD 20814.

The meeting is closed to the public.

Dated: March 3, 2020.
Miguelina Perez,
Program Analyst, Office of Federal Advisory Committee Policy.

[FR Doc. 2020-04698 Filed 3-6-20; 8:45 am]

BILLING CODE 4140-01-P